DEPARTMENT OF THE INTERIOR

Bureau of Land Management

[AZ-910-0777-XP-241A]

State of Arizona Resource Advisory Council Meeting

AGENCY: Bureau of Land Management, Interior.

ACTION: Arizona Resource Advisory Council Meeting notice.

SUMMARY: This notice announces a meeting of the Arizona Resource Advisory Council (RAC).

The business meeting will be held on October 27, 2004, at the Crowne Plaza located at 2532 W. Peoria Avenue, Phoenix, Arizona. It will begin at 9 a.m. and conclude at 4 p.m. The agenda items to be covered include: Review of the August 18, 2004, meeting minutes; BLM State Director's update on statewide issues; new RAC member orientation; presentations on Mineral Split-Estate, Service First, and Draft Report to Congress on Section 321 of the Defense Authorization Act; and Arizona land use planning updates; RAC questions on written reports from BLM Field Managers; Field Office Rangeland Resource Team Proposals; reports by the Standards and Guidelines, Recreation, Off-Highway Vehicle Use, Public Relations, Land Use Planning and Tenure, and Wild Horse and Burro Working Groups; reports from RAC members; and discussion of future meetings. A public comment period will be provided at 11:30 a.m. on October 27, 2004, for any interested publics who wish to address the Council.

FOR FURTHER INFORMATION CONTACT: Deborah Stevens, Bureau of Land Management, Arizona State Office, 222 North Central Avenue, Phoenix, Arizona 85004-2203, (602) 417-9215.

Joanie Losacco,
Acting Arizona State Director.

[FR Doc. 04-21822 Filed 9-28-04; 8:45 am]

BILLING CODE 4310-32-M